FEDERAL ACCOUNTING STANDARDS ADVISORY BOARD

Notice of Release of Exposure Draft on Social Insurance

Board Action: Pursuant to 31 U.S.C. 3511(d), the Federal Advisory Committee Act (Pub. L. No. 92-463), as amended, and the FASAB Rules of Procedure, as amended in April, 2004, notice is hereby given that the Federal Accounting Standards Advisory Board (FASAB) has released the Exposure Draft on Social Insurance.

The Social Insurance Exposure Draft is available on the FASAB home page http://www.fasab.gov/exposure.html. Copies can be obtained by contacting FASAB at (202) 512-7350. Respondents are encouraged to comment on any part of the exposure draft. Written comments are requested by February 9, 2009, and should be sent to:

Wendy M. Payne, Executive Director, Federal Accounting Standards Advisory Board, 441 G Street, NW., Suite 6814, Mail Stop 6K17V, Washington, DC 20548.

Any interested person may attend the meetings as an observer. Board discussion and reviews are open to the public. GAO Building Security requires advance notice of your attendance. Please notify FASAB of your planned attendance by calling 202-512-7350 at least one day prior to the respective meeting.

FOR FURTHER INFORMATION CONTACT: Wendy Payne, Executive Director, 441 G Street, NW., Washington, DC 20548, or call (202) 512-7350.

Authority: Federal Advisory Committee Act, Pub. L. No. 92-463.

Dated: November 18, 2008.
Charles Jackson,
Federal Register Liaison Officer.

[FR Doc. E8-27747 Filed 11-21-08; 8:45 am]

BILLING CODE 1610-01-M